COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add product(s) to the Procurement List that will be furnished by nonprofit agencies employing persons who are blind or have other severe disabilities and deletes product(s) and service(s) previously furnished by such agencies.

DATES: Comments must be received on or before: October 13, 2024.

ADDRESSES: Committee for Purchase From People Who Are Blind or Severely Disabled, 355 E Street SW, Suite 325, Washington DC 20024.

FOR FURTHER INFORMATION CONTACT: For further information or to submit comments contact: Michael R. Jurkowski, Telephone: (703) 489-1322, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

If the Committee approves the proposed additions, the entities of the Federal Government identified in this notice will be required to procure the product(s) listed below from nonprofit agencies employing persons who are blind or have other severe disabilities.

The following product(s) are proposed for addition to the Procurement List for production by the nonprofit agencies listed:

Product(s)

NSN(s)—Product Name(s): 8520-01-490-7365—Advanced Instant Hand Sanitizer, Green Certified Gel, 12 fl oz, Pump Bottle

Authorized Source of Supply: Travis Association for the Blind, Austin, TX

Contracting Activity: FEDERAL ACQUISITION SERVICE, GSA/FSS GREATER SOUTHWEST ACQUISITI

Distribution: A-List

Mandatory for: Total Government Requirement

NSN(s)—Product Name(s):

7490-01-490-7262—Kit, Label Maker, TZe Label Tapes, USB, Bluetooth, Color Display, QWERTY Keyboard, Carry Case

7510-01-630-2385—Label Tape, Cartridge for P-touch Labeler, Laminated, Black on White, 0.35″ W x 26.2′ L

7510-01-490-7265—Label Tape, Cartridge for P-touch Labeler, Laminated, Black on White, 0.47″ W x 26.2′ L

7510-01-490-7266—Label Tape, Cartridge for P-touch Labeler, Laminated, Black on White, 0.71″ W x 26.2′ L

7690-01-563-2817—Label Tape, Cartridge for P-touch Labeler, Laminated, Black on White, 0.94″ W x 26.2′ L

Authorized Source of Supply: Goodwill Vision Enterprises, Rochester, NY

Contracting Activity: FEDERAL ACQUISITION SERVICE, GSA/FAS ADMIN SVCS ACQUISITION BR(2

Distribution: A-List

Mandatory for: Total Government Requirement

Deletions

The following product(s) and service(s) are proposed for deletion from the Procurement List:

Product(s)

NSN(s)—Product Name(s): 8010-01-505-1968—Enamel, Aerosol, Interior/Exterior, Gloss White

Authorized Source of Supply: The Lighthouse for the Blind, St. Louis, MO

Contracting Activity: DLA TROOP SUPPORT, PHILADELPHIA, PA

NSN(s)—Product Name(s):

3030-00-844-4456—Belt, V-shaped, EPDM Rubber, HC50 Cross Section, Notched/A2 Cog, Neoprene, 38.3″

3030-01-271-3754—Belt, V-shaped, Micro, EPDM Rubber, 8 Ribs, 68″

3030-01-293-8544—Belt, V-shaped, Micro, EPDM Rubber, 8 Ribs, 60.59″

3030-01-387-5679—Belt, V-shaped, EPDM Rubber, HC41 Cross Section, Notched/A2 Cog, Neoprene, 30.58″

Authorized Source of Supply: Northeastern Association of the Blind at Albany, Inc., Albany, NY

Contracting Activity: DLA LAND AND MARITIME, COLUMBUS, OH

Service(s)

Service Type: Mailing Service

Mandatory for: US Army Corp of Engineers, Patrick V. McNamara Federal Building, Detroit, MI

Authorized Source of Supply: Gesher Human Services, Southfield, MI

Contracting Activity: DEPT OF THE ARMY, W072 ENDIST DETROIT

Service Type: Administrative Services

Mandatory for: Post Wide, Fort Campbell, KY

Authorized Source of Supply: Huntsville Rehabilitation Foundation, Inc., Huntsville, AL

Contracting Activity: DEPT OF THE ARMY, W6QM MICC-FT CAMPBELL

Service Type: Custodial Service

Mandatory for: US Army, Asymmetric Warfare Training Center, Fort A.P. Hill, VA

Authorized Source of Supply: Rappahannock Goodwill Industries, Inc., Fredericksburg, VA

Contracting Activity: DEPT OF THE ARMY, W6QK ACC-APG

Service Type: Military Environment Support

Mandatory for: US Army, Program Executive Office for Simulation, Training and Instrumentation, Orlando, FL

Authorized Source of Supply: Global Connections to Employment, Inc., Pensacola, FL

Contracting Activity: DEPT OF THE ARMY, W6QK ACC-ORLANDO

Service Type: Hospital Housekeeping

Mandatory for: Department of Veterans Affairs, VA Maryland Health Care System, Baltimore, MD

Authorized Source of Supply: Global Connections to Employment, Inc., Pensacola, FL

Contracting Activity: VETERANS AFFAIRS, DEPARTMENT OF, 613-MARTINSBURG (00613)

Service Type: Custodial Service

Mandatory for: Department of Veterans Affairs, Veteran Affairs Outpatient Clinic, Charlotte, NC

Authorized Source of Supply: OE Enterprises, Inc., Hillsborough, NC

Contracting Activity: VETERANS AFFAIRS, DEPARTMENT OF, 246-NETWORK CONTRACTING OFFICE 6

Service Type: Custodial & Grounds Maintenance

Mandatory for: US Army Reserve, CPT Alden D. Allen Armed Forces Reserve Center, Horseheads, NY

Authorized Source of Supply: Mozaic Chapter, NYSARC, Inc., Waterloo, NY

Contracting Activity: DEPT OF THE ARMY, W6QK ACC-PICA

Service Type: Administrative Support Service

Mandatory for: Department of Veterans Affairs, Atlanta VA Medical Center, Health Administrative Services Office, Decatur, GA

Authorized Source of Supply: Bobby Dodd Institute, Inc., Atlanta, GA

Contracting Activity: VETERANS AFFAIRS, DEPARTMENT OF, 247-NETWORK CONTRACT OFC 7(00247)

Service Type: Custodial Services

Mandatory for: Department of Veterans Affairs, York Community Based Outpatient Clinic, York, PA

Authorized Source of Supply: Goodwill Services, Inc., Harrisburg, PA

Contracting Activity: VETERANS AFFAIRS, DEPARTMENT OF, 595-LEBANON

Service Type: Grounds & Cemetery Facilities Maintenance

Mandatory for: US Army, Fort McClellan Veterans and Prisoner of War Cemeteries, Fort McClellan, AL

Authorized Source of Supply: The Opportunity Center Easter Seal Facility—The Ala ES Soc, Inc., Anniston, AL

Contracting Activity: DEPT OF THE ARMY, W0LX ANNISTON DEPOT PROP DIV

Service Type: Custodial Services

Mandatory for: Department of Veterans Affairs, Mid-South Consolidated Mail Outpatient Pharmacy, Murfreesboro, TN

Authorized Source of Supply: Bobby Dodd Institute, Inc., Atlanta, GA

Contracting Activity: VETERANS AFFAIRS, DEPARTMENT OF, NATIONAL CMOP OFFICE (NCO)

Service Type: Laundry Service

Mandatory for: US Air force, Hazardous Waste Recycling Facility, Hill Air Force Base, Hill AFB, UT

Authorized Source of Supply: Enable Utah, Ogden, UT

Contracting Activity: DEPT OF THE AIR FORCE, FA8224 OL H PZI PZIM

Service Type: Administrative Services

Mandatory for: U.S. Army Corps of Engineers, Nashville District: Estes Kefauver Building & Adjacent Buildings, Nashville, TN

Contracting Activity: DEPT OF THE ARMY, W072 ENDIST NASHVILLE

Michael R. Jurkowski,
Director, Business Operations.

[FR Doc. 2024-20842 Filed 9-12-24; 8:45 am]

BILLING CODE 6353-01-P